DEPARTMENT OF TRANSPORTATION

Federal Aviation Administration

Notice of Availability of a Record of Decision (ROD) and Order for a Written Reevaluation of Final Environmental Impact Statement (FEIS) for the Development and Expansion of Runway 9R-27L and Associated Projects at the Fort Lauderdale-Hollywood International Airport

AGENCY: Federal Aviation Administration, U.S. Department of Transportation (DOT).

ACTION: Notice of Availability of a Record of Decision (ROD) and Order.

SUMMARY: The FAA is issuing this notice to advise the public that it has issued a ROD and Order for a written reevaluation of the FEIS for the Development and Expansion of Runway 9R-27L and Associated Projects at the Fort Lauderdale-Hollywood International Airport, Broward County, Florida. The FEIS for the runway expansion project was issued in June 2008. The FAA issued a ROD for this Federal action in December 2008. The runway expansion and other associated airport projects are currently undergoing final engineering and design. Construction activities are scheduled to begin in the summer of 2011. The Broward County (the Airport Sponsor) has submitted a request to the FAA for approval of the engineering and design refinements that are minor changes to the previously approved project. The ROD and Order approves the engineering and design refinements to the previously approved project disclosed in the written reevaluation and as shown on a revised Airport Layout Plan (ALP) that has been submitted to the FAA. Subsequent to this ROD and Order, the FAA will approve the revised ALP.

SUPPLEMENTARY INFORMATION: Copies of this ROD and Order, and written reevaluation are available for public review at the following locations during normal business hours: Fort Lauderdale-Hollywood International Airport, 100 Aviation Boulevard, Fort Lauderdale, FL 33315, 954-359-6978; Federal Aviation Administration Orlando Airports District Office, 5950 Hazeltine National Drive, Suite 400, Orlando, Florida, Telephone (407) 812-6331; Federal Aviation Administration Southern Region Office, 1701 Columbia Avenue, College Park, GA 30337, Telephone (404) 305-6700. The ROD and Order, and written re-evaluation will also be available on Broward County's Web site: http://www.broward.org/Airport/Community/Pages/FEIS.aspx. The ROD and Order, and written reevaluation will also be available for review at the FAA's Web site http://www.faa.gov.

FOR FURTHER INFORMATION CONTACT: Virginia Lane, Environmental Program Specialist, Federal Aviation Administration, Orlando Airports District Office, 5950 Hazeltine National Drive, Suite 400, Orlando, Florida 32822, Telephone (407) 812-6331 Extension 129.

Issued in Orlando, Florida on July 15, 2011.
Bart Vernace,
Acting Manager, Orlando Airports District Office.

[FR Doc. 2011-18815 Filed 7-25-11; 8:45 am]

BILLING CODE 4910-13-P